DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Arkansas:
Benton (FEMA Docket No.: B-1825). | City of Centerton (17-06-3374P). | The Honorable Bill Edwards, Mayor, City of Centerton, P.O. Box 208, Centerton, AR 72719. | City Hall, 290 Main Street, Centerton, AR 72719. | July 16. 2018 | 050399
Washington (FEMA Docket No.: B-1825). | City of Fayetteville (17-06-3037P). | The Honorable Lioneld Jordan, Mayor, City of Fayetteville, 113 West Mountain Street, Fayetteville, AR 72701. | City Hall, 113 West Mountain Street, Fayetteville, AR 72701. | July 10. 2018 | 050216
Colorado:
Jefferson (FEMA Docket No.: B-1825). | City of Arvada (17-08-0958P). | The Honorable Marc Williams, Mayor, City of Arvada, P.O. Box 8101, Arvada, CO 80001. | Engineering Department, 8101 Ralston Road, Arvada, CO 80001. | July 13, 2018 | 085072
Jefferson (FEMA Docket No.: B-1825). | Unincorporated areas of Jefferson County (17-08-0958P). | The Honorable Libby Szabo, Chair, Jefferson County Board of Commissioners, 100 Jefferson County Parkway, Golden, CO 80419. | Jefferson County Department of Planning and Zoning, 100 Jefferson County Parkway, Golden, CO 80419. | July 13, 2018 | 080087
Jefferson (FEMA Docket No.: B-1829). | Unincorporated areas of Jefferson County (17-08-1483P). | The Honorable Libby Szabo, Chair, Jefferson County Board of Commissioners, 100 Jefferson County Parkway, Golden, CO 80419. | Jefferson County Department of Planning and Zoning, 100 Jefferson County Parkway, Golden, CO 80419. | July 20, 2018 | 080087
Connecticut: Fairfield (FEMA Docket No.: B-1825). | Town of Darien (18-01-0005P). | The Honorable Jayme Stevenson, First Selectwoman, Town of Darien, Board of Selectmen, 2 Renshaw Road, Darien, CT 06820. | Planning and Zoning Department, 2 Renshaw Road, Darien, CT 06820. | July 9, 2018 | 090005
Florida:
Alachua (FEMA Docket No.: B-1825). | Unincorporated areas of Alachua County (17-04-7240P). | The Honorable Lee Pinkoson, Chairman, Alachua County Board of Commissioners, 12 Southeast 1st Street, Gainesville, FL 32601. | Alachua County Public Works Department, 5620 Northwest 120th Lane, Gainesville, FL 32653. | July 23, 2018 | 120001
Charlotte (FEMA Docket No.: B-1825). | Unincorporated areas of Charlotte County (18-04-0611P). | The Honorable Ken Doherty, Chairman, Charlotte County Board of, Commissioners, (18500 Murdock Circle, Suite 536, Port Charlotte, FL 33948. | Charlotte County Community Development Department, (18400 Murdock Circle, Port Charlotte, FL 33948. | July 12, 2018 | 120061
Monroe (FEMA Docket No.: B-1825). | Unincorporated areas of Monroe County (18-04-1687P). | The Honorable David Rice, Mayor, Monroe County Board of Commissioners, 1100 Simonton Street, Key West, FL 33040. | Monroe County Building Department, 2798 Overseas Highway, Marathon, FL 33050. | July 9, 2018 | 125129
Monroe (FEMA Docket No.: B-1825). | Village of Islamorada (18-04-1511P). | The Honorable Chris Sante, Mayor, Village of Islamorada, 86800 Overseas Highway, Islamorada, FL 33036. | Planning and Development, Department, 86800 Overseas Highway, Islamorada, FL 33036. | July 11, 2018 | 120424
Pinellas (FEMA Docket No.: B-1825). | City of Indian Rocks Beach (18-04-1507P). | Mr. Brently Gregg Mims, Manager, City of Indian Rocks Beach, 1507 Bay Palm Boulevard, Indian Rocks Beach, FL 33785. | Building Department 1507 Bay Palm Boulevard, Indian Rocks Beach, FL 33785. | July 23, 2018 | 125117
Hawaii: Hawaii (FEMA Docket No.: B-1825). | Unincorporated areas of Hawaii County (17-09-1285P). | The Honorable Harry Kim, Mayor, Hawaii County, 25 Aupuni Street, Suite 2603, Hilo, HI 96720. | Hawaii County Department of Public Works Engineer Division, 101 Pauahi Street, Suite 7, Hilo, HI 96720. | July 12, 2018 | 155166
Mississippi: DeSoto (FEMA Docket No.: B-1825). | City of Olive Branch (17-04-5691P). | The Honorable Scott Phillips, Mayor, City of Olive Branch, 9200 Pigeon Roost Road, Olive Branch, MS 38654. | Development & Planning Department 9200 Pigeon Roost Road, Olive Branch, MS 38654. | July 13, 2018 | 280286
North Carolina:
Stokes (FEMA Docket No.: B-1825). | Unincorporated areas of Stokes County (17-04-7748P). | The Honorable Ronnie Mendenhall Chairman, Stokes County Board of Commissioners, P.O. Box 20, Danbury, NC 27016. | Stokes County Planning and Inspection Department, 1014 Main Street, Danbury, NC 27016. | July 20, 2018 | 370362
Wake (FEMA Docket, No.: B-1829). | Unincorporated areas of Wake County 16-04-2584P). | The Honorable Jessica, Holmes, Chair, Wake County Board of Commissioners, P.O. Box 550, Raleigh, NC 27602. | Wake County Environmental Services Department, 336 Fayetteville Street, Raleigh, NC 27601. | July 6, 2018 | 370368
Oklahoma: Washington (FEMA Docket No.: B-1825). | City of Bartlesville (17-06-4218P). | The Honorable Dale Copeland, Mayor, City of Bartlesville, 401 South Johnstone Avenue, Bartlesville, OK 74003. | City Hall, 401 South Johnstone Avenue, Bartlesville, OK 74003. | July 12, 2018 | 400220
South Dakota:
Charles Mix (FEMA Docket No.: B-1829). | City of Wagner (17-08-0710P). | The Honorable Donald R. Hosek, Mayor, City of Wagner, P.O. Box 40, Wagner, SD 57380. | City Hall, 60 South Main Avenue, Wagner, SD 57380. | July 19, 2018 | 460224
Charles Mix (FEMA Docket No.: B-1829). | Yankton Sioux Tribe (17-08-0710P). | The Honorable Robert Flying Hawk, Chairman, Yankton Sioux Tribe, P.O. Box 1153, Wagner, SD 57380. | Yankton Sioux Tribal Hall, 806 Main Avenue Southwest, Wagner, SD 57380. | July 19, 2018 | 461204
Tennessee: Wilson (FEMA Docket No.: B-1825). | Unincorporated areas of Wilson County (18-04-1157P). | The Honorable Randall Hutto, Mayor, Wilson County, 228 East Main Street, Room 104, Lebanon, TN 37087. | Wilson County Courthouse, 228 East Main Street, Room 5, Lebanon, TN 37087. | July 11, 2018 | 470207
Texas:
Dallas (FEMA Docket No.: B-1825). | City of Rowlett (17-06-2228P). | The Honorable Tammy Dana-Bashian, Mayor, City of Rowlett, 4000 Main Street, Rowlett, TX 75088. | Community Development Building, 3901 Main Street, Rowlett, TX 75088. | July 20, 2018 | 480185
Hays (FEMA Docket No.: B-1825). | City of Kyle (17-06-4216P). | The Honorable Travis Mitchell, Mayor, City of Kyle, P.O. Box 40, Kyle, TX 78640. | Stormwater Program and Storm Drainage and Flood Risk Mitigation Utility, 100 West Center Street, Kyle, TX 78640. | July 12, 2018 | 481108
Kaufman (FEMA Docket No.: B-1825). | City of Terrell (17-06-3844P). | The Honorable D.J. Ory, Mayor, City of Terrell, P.O. Box 310, Terrell, TX 75160. | Engineering Department, 201 East Nash Street, Terrell, TX 75160. | July 13, 2018 | 480416
Kaufman (FEMA Docket No.: B-1825). | Unincorporated areas of Kaufman County (17-06-3844P). | The Honorable Bruce Wood, Kaufman County Judge, 100 West Mulberry Street, Kaufman, TX 75142. | Kaufman County Public Works Department, 3003 South Washington Street, Kaufman, TX 75142. | July 13, 2018 | 480411
Tarrant (FEMA Docket No.: B-1825). | City of Fort Worth (17-06-4075P). | The Honorable Betsy Price, Mayor, City of Fort Worth, 200 Texas Street, Fort Worth, TX 76102. | Transportation and Public Works Department, 200 Texas Street, Fort Worth, TX 76102. | July 16, 2018 | 480596
Tarrant (FEMA Docket No.: B-1829). | City of Fort Worth (17-06-4077P). | The Honorable Betsy Price, Mayor, City of Fort Worth, 200 Texas Street, Fort Worth, TX 76102. | Transportation and Public Works Department, 200 Texas Street, Fort Worth, TX 76102. | July 13, 2018 | 480596
Tarrant (FEMA Docket No.: B-1825). | City of Fort Worth (17-06-4082P). | The Honorable Betsy Price, Mayor, City of Fort Worth, 200 Texas Street, Fort Worth, TX 76102. | Transportation and Public Works Department, 200 Texas Street, Fort Worth, TX 76102. | July 16, 2018 | 480596
Tarrant (FEMA Docket No.: B-1829). | Town of Edgecliff Village (17-06-4077P). | The Honorable Dennis “Mickey” Rigney, Mayor, Town of Edgecliff Village, 1605 Edgecliff Road, Edgecliff Village, TX 76134. | Town Hall, 1605 Edgecliff Road, Edgecliff Village, TX 76134. | July 13, 2018 | 480592
Williamson (FEMA Docket No.: B-1825). | Unincorporated areas of Williamson County (17-06-2076P). | The Honorable Dan A. Gattis, Williamson County Judge, 710 South Main Street, Suite 101, Georgetown, TX 78626. | Williamson County Engineering Department, 3151 South East Inner Loop, Suite B, Georgetown, TX 78626. | July 12, 2018 | 481079
Utah: Grand (FEMA Docket No.: B-1825). | Unincorporated areas of Grand County (17-08-1595P). | The Honorable Mary McGann, Chair, Grand County Council, 125 East Center Street, Moab, UT 84532. | Grand County Courthouse, 125 East Center Street, Moab, UT 84532. | July 20, 2018 | 490232
Virginia:
Prince William (FEMA Docket No.: B-1829). | Unincorporated areas of Prince William County (17-03-1825P). | Mr. Christopher E. Martino, Prince William County Executive, 1 County Complex Court, Woodbridge, VA 22192. | Prince William County Department of Public Works, 5 County Complex Court, Woodbridge, VA 22192. | July 12, 2018 | 510119
Prince William (FEMA Docket No.: B-1825). | Unincorporated areas of Prince William County (17-03-1866P). | Mr. Christopher E. Martino, Prince William County Executive, 1 County Complex Court, Woodbridge, VA 22192. | Prince William County Department of Public Works, 5 County Complex Court, Woodbridge, VA 22192. | July 12, 2018 | 510119

[FR Doc. 2018-18795 Filed 8-29-18; 8:45 am]

BILLING CODE 9110-12-P